DEPARTMENT OF HEALTH AND HUMAN SERVICES

Centers for Medicare & Medicaid Services

Privacy Act of 1974; CMS Computer Match No. 2013-11; HHS Computer Match No. 1302

AGENCY: Centers for Medicare & Medicaid Services (CMS), Department of Health and Human Services (HHS).

ACTION: Notice of Computer Matching Program (CMP).

SUMMARY: In accordance with the requirements of the Privacy Act of 1974, as amended, this notice announces the establishment of a CMP that CMS intends to conduct with State-based Administering Entities (AEs). Under this CMP CMS will disclose certain information to the State-based AEs within the Health Insurance Exchanges Program.

Although the Privacy Act requires only that CMS provide an opportunity for interested persons to comment on the proposed matching program, CMS invites comments on all portions of this notice. See “Effective Dates” section below for comment period.

DATES: Effective Dates: Public comments are due 30 days after publication. The matching program shall become effective no sooner than 40 days after the report of the Matching Program is sent to OMB and Congress, or 30 days after publication in the Federal Register, whichever is later.

ADDRESSES: The public should send comments to: CMS Privacy Officer, Division of Privacy Policy, Privacy Policy and Compliance Group, Office of E-Health Standards & Services, Office of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Aaron Wesolowski, Director, Verifications Policy & Operations Branch, Division of Eligibility and Enrollment Policy and Operations, Center for Consumer Information and Insurance Oversight, CMS, 200 Independence Ave. SW.—Mailstop 733H.02, Washington, DC 20201.

SUPPLEMENTARY INFORMATION: The Computer Matching and Privacy Protection Act of 1988 (Pub. L. 101-503), amended the Privacy Act (5 U.S.C. 552a) by describing the manner in which computer matching involving Federal agencies could be performed and adding certain protections for individuals applying for and receiving Federal benefits.

Section 7201 of the Omnibus Budget Reconciliation Act of 1990 (Pub. L. 101-508) further amended the Privacy Act regarding protections for such individuals. The Privacy Act, as amended, regulates the use of computer matching by Federal agencies when records in a system of records (SOR) are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

CMS has taken action to ensure that all CMPs that this Agency participates in comply with the requirements of the Privacy Act of 1974, as amended.

Dated: June 25, 2013.
Michelle Snyder,
Deputy Chief Operating Officer, Centers for Medicare & Medicaid Services.

CMS Computer Match No. 2013-11; HHS Computer Match No. 1302

Name:“Computer Matching Agreement between the Centers for Medicare & Medicaid Services and State-based Administering Entities for the Disclosure of Health Insurance Affordability Programs Information under the Patient Protection and Affordable Care Act.”

Security Classification:Unclassified.

Participating Agencies:Department of Health and Human Services (HHS), Centers for Medicare & Medicaid Services (CMS), and State-based Administering Entities (AEs).

Authority For Conducting Matching Program:This Computer Matching Program (CMP) is executed to comply with the provisions of the Privacy Act of 1974 (5 U.S.C. 552a), as amended, the Office of Management and Budget (OMB) Circular A-130 entitled, Management of Federal Information Resources, at 61 FR 6428-6435 (February 20, 1996), and OMB guidelines pertaining to computer matching at 54 FR 25818 (June 19, 1989) and 56 FR 18599 (April 23, 1991); and the computer matching portions of Appendix I to OMB Circular No. A-130 as amended at 61 FR 6428 (February 20, 1996).

Purpose(s) of the Matching Program:This Computer Matching Agreement (CMA) establishes the terms, conditions, safeguards, and procedures under which CMS will share certain information with the AEs in accordance with the Patient Protection and Affordable Care Act of 2010 (Pub. L. 111-148), as amended by the Health Care and Education Reconciliation Act of 2010 (Pub. L. 111-152), which are referred to collectively as the Affordable Care Act (ACA), as well as the implementing regulations. Under this CMA the State-based AEs will use the data, accessed through the CMS Data Services Hub, to make Eligibility Determinations for Insurance Affordability Programs and certificates of exemption. State-based AEs are state entities administering Insurance Affordability Programs and may include a State agency, a State Children's Health Insurance Program, a State basic health program or a Marketplace (Exchange).

Description of Records to be Used In the Matching Program:

System of Records Maintained by CMS

The matching program will be conducted with data maintained by CMS in the “Health Insurance Exchanges (HIX) Program,” System No. 09-70-0560 established at 78 FR 8538 on February 6, 2013, and amended at 78 FR 32256 on May 29, 2013.

Inclusive Dates of the Match:The CMP shall become effective no sooner than 40 days after the report of the Matching Program is sent to OMB and Congress, or 30 days after publication in the Federal Register, whichever is later. The matching program will continue for 18 months from the effective date and may be extended for an additional 12 months thereafter, if certain conditions are met.

[FR Doc. 2013-15819 Filed 7-1-13; 8:45 am]

BILLING CODE 4120-03-P